ADVISORY COMMISSION ON ELECTRONIC COMMERCE

Meetings

The Advisory Commission on Electronic Commerce was established by Public Law 105-277 to conduct a thorough study of federal, state, local and international taxation and tariff treatment of transactions using the Internet and Internet access and other comparable intrastate, interstate or international sales activities. The Commission is to report its findings and recommendations to Congress no later than April 21, 2000. Notice is hereby given, that the Advisory Commission on Electronic Commerce will hold a meeting Monday, March 20, 2000, from 1 p.m. to 5:30 p.m., CST, and Tuesday, March 21, 2000, from 8:30 a.m. to 5:30 p.m. CST, in the International Ballroom of the Fairmont Hotel, 1717 North Akard Street, Dallas, Texas. The meetings of the Commission shall be open to the public. This meeting will be broadcast live on the World Wide Web. Instructions for accessing this broadcast can be found at the Commission Web site: www.ecommercecommission.org. A verbatim transcript of this meeting will be available on the same Web site.

Oral comments from the public will be excluded at this meeting.

Records shall be kept of all Commission proceedings and shall be available for public inspection, given adequate notice, at the Commission's offices at 3401 North Fairfax Dr., Arlington, Virginia 22201-4498.

A listing of the members of the commission and details concerning their appointment were published in the Federal Register on June 9, 1999, at 64 FR 30958. Additional information concerning the Commission can be found on its Web site. The agenda for the Dallas meeting will also be published on the Web site.

Heather Rosenker,
Executive Director.

[FR Doc. 00-3605 Filed 2-15-00; 8:45 am]

BILLING CODE 0000-00-M